DEPARTMENT OF ENERGY

Federal Energy Regulatory Commission

[Docket No. ER02-1656-000]

California Independent System Operator Corporation; Notice of FERC Staff Attendance

August 29, 2005.

The Federal Energy Regulatory Commission (Commission) hereby gives notice that members of its staff will attend a series of stakeholder meetings on the California Independent System Operator Corporation's (CAISO) Market Redesign and Technology Upgrade proposal on the following dates:

August 30-September 1, 2005.

September 20-22, 2005.

October 24-28, 2005.

The meetings will be held at the CAISO's facility, located at 151 Blue Ravine Road, Folsom, CA 95630.

Sponsored by the CAISO, the meetings are open to the public, and staff's attendance is part of the Commission's ongoing outreach efforts. The meeting may discuss matters at issue in Docket No. ER02-1656-000.

For further information, contact Katherine Gensler at katherine.gensler@ferc.gov; (916) 294-0275.

Magalie R. Salas,
Secretary.

[FR Doc. E5-4861 Filed 9-6-05; 8:45 am]

BILLING CODE 6717-01-P